DEPARTMENT OF COMMERCE

International Trade Administration

[A-428-844]

Certain Carbon and Alloy Steel Cut-to-Length Plate From the Federal Republic of Germany: Final Results of Antidumping Duty Administrative Review; 2022-2023

AGENCY: Enforcement and Compliance, International Trade Administration, Department of Commerce.

SUMMARY: The U.S. Department of Commerce (Commerce) determines that certain carbon and alloy steel cut-to-length plate (CTL plate) from the Federal Republic of Germany (Germany) was not sold in the United States at less than normal value during the period of review (POR) May 1, 2022, through April 30, 2023.

DATES: Applicable October 9, 2024.

FOR FURTHER INFORMATION CONTACT: Ian Riggs, AD/CVD Operations, Office IX, Enforcement and Compliance, International Trade Administration, U.S. Department of Commerce, 1401 Constitution Avenue NW, Washington, DC 20230; telephone: (202) 482-3810.

SUPPLEMENTARY INFORMATION:

Background

On June 3, 2024, Commerce published the Preliminary Results and invited interested parties to comment.¹ We received no comments from interested parties on the Preliminary Results, and we have made no changes from the Preliminary Results. Accordingly, there is no decision memorandum accompanying this Federal Register notice.

¹ See Certain Carbon and Alloy Steel Cut-to-Length Plate from the Federal Republic of Germany: o Preliminary Results of Antidumping Duty Administrative Review; 2022-23, 89 FR 47531 (June 3, 2024) (Preliminary Results), and accompanying Preliminary Decision Memorandum.

On July 22, 2024, Commerce tolled certain deadlines in this administrative proceeding by seven days.² The deadline for these final results is now October 8, 2024. Commerce conducted this administrative review in accordance with section 751 of the Tariff Act of 1930, as amended (the Act).

² See Memorandum, “Tolling of Deadlines for Antidumping and Countervailing Duty Proceedings,” dated July 22, 2024.

Scope of the Order ³

³ See Certain Carbon and Alloy Steel Cut-To-Length Plate from Austria, Belgium, France, the Federal Republic of Germany, Italy, Japan, the Republic of Korea, and Taiwan: Amended Final Affirmative Antidumping Determinations for France, the Federal Republic of Germany, the Republic of Korea, and Taiwan, and Antidumping Duty Orders, 82 FR 24096 (May 25, 2017) (Order).

The merchandise covered by the Order is CTL plate from Germany. For a complete description of the scope of the Order, see the Preliminary Results.

Final Results of Review

We determine that the following estimated weighted-average dumping margin exists for the period May 1, 2022, through April 30, 2023:

Producer/exporter | Weighted- average dumping margin (percent)
AG der Dillinger Hüttenwerke | 0.00

Disclosure

Normally, Commerce discloses to interested parties the calculations performed in connection with the final results of review within five days of any public announcement or, if there is no public announcement, within five days of the date of publication of the notice of final results in the Federal Register, in accordance with 19 CFR 351.224(b). However, because Commerce made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries of subject merchandise in accordance with the final results of this review.

Because the weighted-average dumping margin for AG der Dillinger Hüttenwerke (Dillinger) is zero or de minimis (i.e., less than 0.5 percent) we will instruct CBP to liquidate the appropriate entries without regard to antidumping duties. Commerce's “automatic assessment” practice will apply to entries of subject merchandise during the POR produced by Dillinger for which the reviewed company did not know that the merchandise it sold to the intermediary (e.g., a reseller, trading company, or exporter) was destined for the United States. In such instances, we will instruct CBP to liquidate unreviewed entries at the all-others rate if there is no rate for the intermediate company(ies) involved in the transaction.⁴

⁴ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for the company listed above will be equal to the weighted-average dumping margin established in the final results of this review; (2) for previously investigated or reviewed companies not listed above, the cash deposit rate will continue to be the company-specific rate published for the most recently completed segment of this proceeding in which the company participated; (3) if the exporter is not a firm covered in this review, or the less-than-fair-value investigation, but the producer is, then the cash deposit rate will be the cash deposit rate established for the most recently completed segment for the producer of the subject merchandise; and (4) the cash deposit rate for all other producers and exporters will continue to be 20.99 percent, the all-others rate established in the Amended Final Determination.⁵ These cash deposit requirements, when imposed, shall remain in effect until further notice.

⁵ See Certain Carbon and Alloy Steel Cut-to-Length Plate From the Federal Republic of Germany: Notice of Court Decision Not in Harmony With the Amended Final Determination of Antidumping Investigation; Notice of Second Amended Final Determination, 89 FR 1882, 1883 (January 11, 2024).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice serves as the only reminder to parties subject to an APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing this notice in accordance with sections 751(a)(1) and 777(i) of the Act, and 19 CFR 351.221(b)(5).

Dated: October 3, 2024.
Ryan Majerus,
Deputy Assistant Secretary for Policy and Negotiations, performing the non-exclusive functions and duties of the Assistant Secretary for Enforcement and Compliance.

[FR Doc. 2024-23330 Filed 10-8-24; 8:45 am]

BILLING CODE 3510-DS-P